DEPARTMENT OF ENERGY

Federal Energy Regulatory Commission

[Docket No. CP09-78-000 ]

ANR Pipeline Company; Notice of Request Under Blanket Authorization

March 18, 2009.

Take notice that on March 11, 2009, ANR Pipeline Company (ANR), 717 Texas Street, Houston, Texas 77002, filed in Docket No. CP09-78-000, an application, pursuant to sections 157.205 and 157.208(b) of the Commission's Regulations under the Natural Gas Act (NGA) as amended, to reconfigure compressor operations and natural gas flow at its Eunice compressor station in Acadia Parish, Louisiana, under ANR's blanket certificate issued in Docket No. CP82-480-000,¹ all as more fully set forth in the application which is on file with the Commission and open to the public for inspection.

¹ 20 FERC ¶ 62,595 (1982).

ANR proposes to enhance operations at the Eunice compressor station by altering station piping to make Eunice bi-directional and by reconfiguring two 12,000 horsepower compressor units to permit operations under low-flow conditions. ANR states that its proposed reconfiguration of the Eunice compressor station would allow ANR to provide incremental firm backhaul transportation service to customers in ANR's Southeast markets. ANR also states that the proposed reconfiguration would allow for an additional mode of operation while retaining existing capabilities. ANR refers to this project as the Southeast Backhaul Expansion Project. Finally, ANR states that it would cost approximately $17,200,000 to reconfigure the Eunice compressor station.

Any questions concerning this application may be directed to Dean Ferguson, Vice President, Marketing and Business Development, ANR Pipeline Company, 717 Texas Street, Houston, Texas 77002, telephone at (832) 320-5503, facsimile at (832) 320-6503, or via e-mail: dean_ferguson@transcanada.com .

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E9-6501 Filed 3-24-09; 8:45 am]

BILLING CODE